FEDERAL COMMUNICATIONS COMMISSION

47 CFR Part 73

[MB Docket No. 21-9; RM-11872; DA 21-40; FRS 17397]

Television Broadcasting Services Tulsa, Oklahoma

AGENCY: Federal Communications Commission.

ACTION: Proposed rule.

SUMMARY: The Commission has before it a petition for rulemaking filed by KTUL Licensee, LLC, (Licensee), licensee of KTUL, channel 10, Tulsa, Oklahoma, requesting the substitution of channel 14 for channel 10 at Tulsa in the DTV Table of Allotments. The Licensee states that the Commission has recognized that VHF channels have certain propagation characteristics which may cause reception issues for some viewers, and also that reception of VHF signals require larger antennas that are generally not well suited to the mobile applications expected under flexible use, relative to UHF channels. KTUL has received numerous complaints from viewers unable to receive the Station's over-the-air signal, despite being able to receive signals from other stations. Licensee further states that with respect to operations on channel 14 and nearby land mobile services, it has determined that it can install the appropriate mask filter and antenna needed to avoid interference to land mobile operations. In addition, operation on channel 14 will not result in any predicted loss of service and would result in a substantial increase in signal receivability for KTUL viewers.

DATES: Comments must be filed on or before April 9, 2021 and reply comments on or before April 26, 2021.

ADDRESSES: Federal Communications Commission, Office of the Secretary, 45 L Street NE, Washington, DC 20554. In addition to filing comments with the FCC, interested parties should serve counsel for petitioner as follows: Paul A. Cicelski, Esq., Lerman Senter PLLC, 2001 L Street NW, Suite 400, Washington, DC 20036.

FOR FURTHER INFORMATION CONTACT: Joyce Bernstein, Media Bureau, at (202) 418-1647; or Joyce Bernstein, Media Bureau, at Joyce.Bernstein@fcc.gov.

SUPPLEMENTARY INFORMATION: This is a synopsis of the Commission's Notice of Proposed Rulemaking, MB Docket No. 21-9; RM-11872; DA 21-40, adopted January 12, 2021, and released January 12, 2021. The full text of this document is available for download at https://www.fcc.gov/edocs. To request materials in accessible formats (Braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—Radio Broadcast Service

1. The authority citation for part 73 continues to read as follows:

Authority: 47 U.S.C. 154, 303, 334, 336, and 339.

§ 73.622 [Amended]

2. Amend § 73.622(i), the Post-Transition Table of DTV Allotments under Oklahoma, by removing channel 10 and adding channel 14 at Tulsa.

[FR Doc. 2021-01491 Filed 3-9-21; 8:45 am]

BILLING CODE 6712-01-P